DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 8, 2010. Address written comments to Statutory Import Programs Staff, Room 3720, U.S. Department of Commerce, Washington, DC 20230. Applications may be examined between 8:30 a.m. and 5 p.m. at the U.S. Department of Commerce in Room 3720.

Docket Number: 10-052. Applicant: Argonne National Laboratory, UChicago Argonne, LLC, 9700 South Cass Avenue, Lemont, IL 60439. Instrument: Pilatus 2M Pixel Detector System. Manufacturer: Dectris Ltd., Switzerland. Intended Use: The instrument will be used to obtain fine structural information for materials during chemical reactions, such as catalysis. The instrument has gatable data processing as well as high time resolution and high spatial resolution, which makes the instrument unique. Other unique features include direct detection of x-rays in single-photon-counting mode, a radiation-tolerant design, a high dynamic range, a short readout time, high frame rates, high counting rates, and shutterless operation. Justification for Duty-Free Entry: There are no instruments of the same general category being manufactured in the United States. Application accepted by Commissioner of Customs: July 23, 2010.

Docket Number: 10-053. Applicant: Argonne National Laboratory, UChicago Argonne, LLC, 9700 South Cass Avenue, Lemont, IL 60439. Instrument: UHV low-Temperature Atomic Force Microscope System for Application in High Magnetic Fields. Manufacturer: Omicron Nanotechnology, Germany. Intended Use:The instrument will be used to study atomic scale electrical and magnetic properties of electrically conduction as well as insulation nanostructures prepared by in situ deposition onto clean surfaces. In-situ capacities allow the preparation of clean and well-defined nanostructures on pristine surfaces which would contaminate otherwise. Unique features of this instrument include the capability of applying large magnetic fields (>3 Tesla), which is necessary to allow the clear separation of structural, electronic, and magnetic signals of nanostructures and the evaluation of the properties to be studied in these experiments. The instrument also has in-situ preparation capability and the ability to operate in low temperatures. Further, the instrument is capable of performing imaging in two main modes of operation, i.e., scanning tunneling microscopy and atomic force microscopy. Justification for Duty-Free Entry: There are no instruments of the same general category being manufactured in the United States. Application accepted by Commissioner of Customs: July 21, 2010.

Dated: August 11, 2010.
Christopher Cassel,
Director, IA Subsidies Enforcement Office.

[FR Doc. 2010-20613 Filed 8-18-10; 8:45 am]

BILLING CODE 3510-DS-P